DEPARTMENT OF TRANSPORTATION

Federal Aviation Administration

14 CFR Part 71

[Docket No. FAA-2023-2269; Airspace Docket No. 23-ASO-4]

RIN 2120-AA66

Amendment of Jet Routes and Domestic Very High Frequency Omnidirectional Range (VOR) Federal Airways and Revocation of Jet Route; Eastern United States

AGENCY: Federal Aviation Administration (FAA), DOT.

ACTION: Notice of proposed rulemaking (NPRM).

SUMMARY: This action proposes to amend six jet routes and six domestic Very High Frequency Omnidirectional Range (VOR) Federal airways in the eastern United States. In addition, this action proposes to revoke one existing jet route. These actions support the Little Rock, AR (LIT), VOR/Tactical Air Navigation (VORTAC) relocation project.

DATES: Comments must be received on or before January 22, 2024.

ADDRESSES: Send comments identified by FAA Docket No. FAA-2023-2269 and Airspace Docket No. 23-ASO-4 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Jet routes are published in paragraph 2004 and domestic VOR Federal airways are published in paragraph 6010(a) of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

This action is proposed due to the Little Rock, AR (LIT), VORTAC relocation project. The land where the Little Rock VORTAC resides is being sold which requires its relocation. The Little Rock VORTAC is be planned to be relocated in September 2024 from its current location, “lat. 34°40′39.62″ N, long. 092°10′-49.90″ W”, to approximately 8.06 nautical miles (NM) north, “lat. 34°48′36.36″ N, long. 092°09′07.44″ W”. The facility identification will remain unchanged. The magnetic variation for the current Little Rock VORTAC is 5°E and will change to 0°E after the relocation. The route modifications proposed would realign the airway structure resulting from relocating the Little Rock VORTAC.

The Proposal

The FAA is proposing an amendment to 14 CFR part 71 to amend J-6, J-14, J-66, J-101, J-131, J-180, V-54, V-74, V-124, V-305, V-532, and V-573, and to revoke V-534 to support the Little Rock, AR (LIT), VORTAC relocation project and Next Generation Air Transportation System (NextGen), which provides a modern United States Air Navigation (RNAV) route structure to improve the efficiency of the National Airspace System (NAS). The proposed changes are described below.

J-6: J-6 currently extends between the Salinas, CA (SNS), VORTAC and the Little Rock, AR (LIT), VORTAC, and between the Charleston, WV (HVQ), VOR/Distance Measuring Equipment (VOR/DME) and the Albany, NY (ALB), VORTAC. The FAA proposes to remove the airway segment between the Will Rogers, OK (IRW), VORTAC and the Little Rock VORTAC as this segment is not needed due to redundant navigation capability provided by jet route J-14. As amended, the airway would extend between the Salinas VORTAC and the Will Rogers VORTAC, and between the Charleston VOR/DME and the Albany VORTAC.

J-14: J-14 currently extends between the Panhandle, TX (PNH), VORTAC and the Vulcan, AL (VUZ), VORTAC. The FAA proposes to add the KOMMA, OK, Fix, and the JMUCK, MS, Fix to the part 71 description as it would be a turn of more than one degree. The JMUCK Fix is defined by the intersection of the relocated Little Rock, AR (LIT), VORTAC 105°True (T)/105°Magnetic(M) and the Vulcan VORTAC 284°T/282°M radials.

J-66: J-66 currently extends between the Newman, TX (EWM), VORTAC and the Rome, GA (RMG), VORTAC. The FAA proposes to add the MEEOW, AR, Fix to the part 71 description as it would be a turn of more than one degree.

J-101: J-101 currently extends between the Humble, TX (IAH), VORTAC and the Sault Ste Marie, MI (SSM), VOR/DME. The FAA proposes to add the CISAR, AR, Fix to the part 71 description as it would be a turn of more than one degree.

J-131: J-131 currently extends between the San Antonio, TX (SAT), VORTAC and the Pocket City, IN (PXV), VORTAC. The FAA proposes to add the RUSLR, MO, Fix to the part 71 description as it would be a turn of more than one degree.

J-180: J-180 currently extends between the Humble, TX (IAH), VORTAC and the Foristell, MO (FTZ), VORTAC. The FAA proposes to remove the airway segments between the Humble VORTAC and the Little Rock, AR (LIT), VORTAC due to the scheduled decommissioning of the Daisetta, TX (DAS), VORTAC and the Sawmill, LA (SWB), VOR/DME. Instrument Flight Rules (IFR) traffic may continue to utilize parallel jet routes J-101 and J-29. Additionally, aircraft may navigate via point-to-point navigation using the fixes that will remain in place, or request and receive air traffic control (ATC) radar vectors through and around the area. As amended, jet route J-180 would extend between the Little Rock VORTAC and the Foristell VORTAC.

V-54: V-54 consists of two parts: between the Waco, TX (ACT), VORTAC, and the Little Rock, AR (LIT), VORTAC; and between the Sandhills, NC (SDZ), VORTAC, and the Kinston, NC (ISO), VORTAC. The FAA proposes to add the MUFRE, AR, Fix and modify the description to be the Texarkana, AR (TXK), VORTAC, 052°T/045°M and the Little Rock VORTAC, 230°T/230°M radials. Additionally, the FAA proposes to add to the part 71 description that the airway excludes restricted area R-2403B when it is active. The second part of the route would remain unchanged as currently charted.

V-74: V-74 currently extends between Garden City, KS (GCK), VORTAC, and the Magnolia, MS (MHZ), VORTAC. The FAA proposes to add the OLLAS, AR, Fix to the part 71 description as it would be a turn of more than one degree.

V-124: V-124 currently extends between the Bonham, TX (BYP), VORTAC and the Gilmore, AR (GQE), VOR/DME. The FAA proposes to reconnect to the existing airway at the HILLE, AR, Fix, and add to the part 71 description that the airway excludes restricted area R-2403B when it is active. Additionally, the FAA proposes to remove the route segment between the HILLE Fix and the Gilmore VOR/DME as it is not needed for ATC services. In order to navigate through and around the Memphis area, IFR traffic may continue to utilize VOR Federal airways V-16 and V-159. Air traffic may also utilize RNAV route T-398. Visual Flight Rules (VFR) air traffic may also utilize all of the previously listed routes. Aircraft may also navigate via point-to-point navigation using the fixes that will remain in place, or request and receive ATC radar vectors through and around the area. As amended, V-124 would extend between the Bonham VORTAC and the HILLE Fix.

V-305: V-305 consists of two parts: between the El Dorado, AR (ELD), VOR/DME, and the Walnut Ridge, AR (ARG), VORTAC; and between Cunningham, KY (CNG), VOR/DME, and the Brickyard, IN (VHP), VORTAC. The FAA proposes to add the UKORE, AR, Fix to the part 71 description as it would be a turn of more than one degree, and that the airway excludes restricted area R-2403B when it is active.

V-532: V-532 currently extends between Little Rock, AR (LIT), VORTAC and the Lincoln, NE (LNK), VORTAC. The FAA proposes to remove the route segments between the Little Rock VORTAC and the Fort Smith, AR (FSM), VORTAC due to lack of use as V-74 offers a more direct path for aircraft to navigate between the Little Rock VORTAC and the Fort Smith VORTAC. Additionally, V-303 would continue to provide navigation capability between the BLURB, AR, Fix and the Fort Smith VORTAC. As amended, V-532 would extend between the Fort Smith VORTAC and the Lincoln VORTAC.

V-534: V-534 currently extends between Little Rock, AR (LIT), VORTAC and the Fort Smith, AR (FSM), VORTAC. The FAA proposes to remove the entire route due to lack of use as V-74 offers a more direct path for aircraft to navigate between Little Rock VORTAC and Fort Smith VORTAC.

V-573: V-573 currently extends between Will Rogers, OK (IRW), VORTAC and the Little Rock, AR (LIT), VORTAC. The FAA proposes to remove the route segment between Hot Springs, AR (HOT), VOR/DME and Little Rock VORTAC due to V-124 providing redundant navigation capability. As amended, V-573 would extend between Will Rogers VORTAC and the Hot Springs VOR/DME.

The full descriptions of the above routes are listed in the proposed regulatory text of this NPRM.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes

* * * * *

J-6 [Amended]

From Salinas, CA; INT Salinas 145° and Avenal, CA, 292° radials; Avenal; INT Avenal 119°and Palmdale, CA, 310° radials; Palmdale; Hector, CA; Needles, CA; Drake, AZ; Zuni, AZ; Albuquerque, NM; Tucumcari, NM; Panhandle, TX; to Will Rogers, OK. From Charleston, WV; INT Charleston 076° and Martinsburg, WV, 243° radials; Martinsburg; Lancaster, PA; Broadway, NJ; Sparta, NJ; to Albany, NY.

* * * * *

J-14 [Amended]

From Panhandle, TX; Will Rogers, OK; INT Will Rogers 097°T/090°M and Little Rock, AR 276°T/276°M radials; Little Rock; INT Little Rock 105°T/105°M and Vulcan, AL 284°T/282°M radials; to Vulcan.

* * * * *

J-66 [Amended]

From Newman, TX; via Big Spring, TX; Abilene, TX; Ranger, TX; Bonham, TX; INT Bonham 070°T/064°M and Little Rock, AR 247°T/247°M radials; Little Rock; Memphis, TN; INT Memphis 100° and Rome, GA 284° radials; to Rome.

* * * * *

J-101 [Amended]

From Humble, TX, Lufkin, TX; INT Lufkin 031°T/026°M and Little Rock, AR 210°T/210°M radials; Little Rock; St. Louis, MO; Spinner, IL; Pontiac, IL; Joliet, IL; Northbrook, IL; Badger, WI; Green Bay, WI; to Sault Ste Marie, MI.

* * * * *

J-131 [Amended]

From San Antonio, TX, via INT San Antonio 007° and Ranger, TX, 214° radials; Ranger; Texarkana, AR; Little Rock, AR; INT Little Rock 049°T/049°M and Walnut Ridge, AR 077°T/073°M radials; to Pocket City, IN.

* * * * *

J-180 [Amended]

From Little Rock, AR; to Foristell, MO.

* * * * *

Paragraph 6010(a) Domestic VOR Federal Airways

* * * * *

V-54 [Amended]

From Waco, TX; to Cedar Creek, TX. From Texarkana, AR; INT Texarkana 052° and Little Rock, AR, 230° radials; to Little Rock. From Sandhills, NC; INT Sandhills 146° and Fayetteville, NC, 267° radials; Fayetteville; to Kinston, NC. Excluding R-2403B when active.

* * * * *

V-74 [Amended]

From Garden City, KS; to Dodge City, KS. From Pioneer, OK; Tulsa, OK; Fort Smith, AR; 6 miles, 7 miles wide (4 miles north and 3 miles south of centerline) INT Fort Smith 112°T/105°M and Little Rock, AR 284°T/284°M radials; Little Rock; Pine Bluff, AR; Greenville, MS; to Magnolia, MS. Excluding R-2403A and R-2403B when active.

* * * * *

V-124 [Amended]

From Bonham, TX, via Paris, TX; Hot Springs, AR; Little Rock, AR; to INT Little Rock 071°T/071°M and Marvel, AR, 326°T/325°M radials. Excluding R-2403B when active.

* * * * *

V-305 [Amended]

From El Dorado, AR; Little Rock, AR; INT Little Rock 039°T/039°M and Marvel, AR 316°T/315°M radials; to Walnut Ridge, AR. From Cunningham, KY; Pocket City, IN; INT Pocket City 046° and Hoosier, IN, 205° radials; Hoosier; INT Hoosier 025° and Brickyard, IN, l85° radials; to Brickyard. Excluding R-2403B when active.

* * * * *

V-532 [Amended]

From Fort Smith; Okmulgee, OK; Pioneer, OK; Wichita, KS, 014° and Salina, KS, 168° radials; Salina; to Lincoln, NE.

* * * * *

V-534 [Removed]

* * * * *

V-573 [Amended]

From Will Rogers, OK; INT Will Rogers 195° and Ardmore, OK, 327° radials; Ardmore; to Bonham, TX. From Texarkana, AR; INT Texarkana 037° and Hot Springs, AR, 225° radials; to Hot Springs.

* * * * *

Issued in Washington, DC, on November 30, 2023.
Karen L. Chiodini,
Acting Manager, Rules and Regulations Group.

[FR Doc. 2023-26672 Filed 12-6-23; 8:45 am]

BILLING CODE 4910-13-P